DEPARTMENT OF HEALTH AND HUMAN SERVICES

Administration for Community Living

Availability of Program Application Instructions for the Title VII, Part C of the Act, Centers for Independent Living (CILs) To Expand COVID-19 Vaccine Access for People With Disabilities

Title: Expanding Disabilities Network's (CILs) Access to COVID-19 Vaccines.

Announcement Type: Initial.

Statutory Authority: The statutory authority for grants under this program announcement is contained in Section 711 and Section 712 of the Rehabilitation Act of 1973 [Pub. L. 93-112] [As Amended Through Pub. L. 114-95, Enacted December 10, 2015].

Catalog of Federal Domestic Assistance (CFDA) Number: 93.432.

DATES: The deadline date for the submission of the Expanding Disabilities Network's (CILs) Access to COVID-19 Vaccines is 11:59 p.m. Eastern Time April 23, 2021.

I. Funding Opportunity Description

The Administration for Community Living (ACL) announced a new funding opportunity to increase vaccine access for people with disabilities. With funding and partnership support from the Centers for Disease Control (CDC), ACL is providing grants to disability networks to provide critical services to help communities combat COVID-19. A leading priority of this joint effort is to ensure vaccines are equally accessible to the disability population.

Approximately 61 million adults living with in the U.S. have a disability, representing approximately 26 percent of the adult population. Disability alone may not be related to increased risk for contracting COVID-19 based on where they live. Some people with disabilities live in group settings which places them at higher risk for acquiring COVID-19 in comparison to people without disabilities. People with disabilities may also require close contact with direct service providers, including personal care attendants or other care providers, who help with activities of daily living. Moreover, many people with disabilities have underlying health conditions (e.g., diabetes, heart disease, and obesity) that increases the risk of severe illness due to COVID-19. In addition, research also found that people with Down Syndrome are significantly more likely to be hospitalized from COVID-19 than the general population.

There are increasing reports of barriers of unequal access in communities to vaccinate people with disabilities. For example, some people with disabilities may experience difficulties scheduling appointments, communicating, obtaining accessible transportation or require direct support services to attend vaccination appointments. Others living in the community may be isolated or unable to leave their home and may require in-home vaccination.

This funding opportunity is designed to breakdown those barriers to expand vaccine access in communities. Examples of activities consistent with the purpose of this funding are the following:

• Education about the importance of receiving a vaccine,

• Identifying people unable to independently travel to a vaccination site,

• Helping with scheduling a vaccine appointment,

• Arranging or providing accessible transportation,

• Providing companion/personal support,

• Reminding people of their second vaccination appointment if needed, and/or,

• Providing technical assistance to local health departments or other entities on vaccine accessibility.

Awards authorized under Title VII, Part C of the Rehabilitation Act shall be provided funding under this opportunity. Award recipients will be required to submit annual progress reports in the form of a written summary on the activities conducted, challenges, successes, and lessons learned. In addition, to show impact of the grant awards, the grantee will include the number of people served or impacted by the services provided, against each of the activities chosen to be implemented. To be eligible to receive this grant, the grantee must submit a Letter of Assurance to ACL containing all the assurances required, (see below, “Section III. Eligibility Criteria and Other Requirements” and “Section IV. Submission Information”). Part C CILs that do not complete assurance requirements below, or otherwise indicate no desire to receive funds will be excluded from receiving funds.

ACL may establish ad hoc dates based on the need of the COVID-19 response, e.g., to meet unanticipated issues related to COVID-19 and/or to allow impacted eligible applicants that missed the cut-off date to submit an application for consideration. ACL intends to issue initial notices of award as applications are received prior to the application due date to address urgent COVID-19 response needs. Second notices of award are planned after the actual number of applicants is finalized.

II. Award Information

1. Funding Instrument Type

These awards will be made in the form of formula grants to Part C CILs.

2. Anticipated Total Funding per Budget Period

Awards made under this announcement have an estimated start date of April 1, 2021 and an estimated end date of December 31, 2022, for a 20-month budget and performance period.

The total available funding for this opportunity is $5,000,000. CILs who do not complete assurance requirements below, or otherwise indicate no desire to receive funds will be excluded from receiving funds. This will have the effect of increasing the amount of funds available for eventual recipients.

ACL has determined that if funding were allocated based on previously utilized formulas that a number of grantees would receive funding that was not sufficient to provide any substantive work. As a result, ACL will be distributing the $5,000,000 evenly to all Part C grantees which equates to a minimum award of $14,204 ($5,000,000/352). This figure is based on 352 recipients and would rise if some grantees refuse or are deemed ineligible.

Please note that all activities allowable under this funding are also allowable under CARES Act award. In order to minimize unused funds grantees are encouraged to review their current ability to utilize CARES Act funds, remaining balances and future plans when deciding whether or not to submit for this additional funding.

III. Eligibility Criteria and Other Requirements

1. Eligible Entities

The eligible entity for these awards is designated by ACL as a Part C CIL.

2. Other Requirements

A. Letter of Assurance

A Letter of Assurance is required to be submitted by the eligible entity in order to receive an award. The Letter of Assurance must include the following:

1. Assurance that the award recipient is an entity designated as a Part C funded CIL.

2. Assurance that funds will supplement and not supplant existing Part C funding.

3. Assurance that funds will be spent in ways consistent with the purpose of the funding in carrying out one or more of the following activities:

• Education about the importance of receiving a vaccine,

• Identifying people unable to independently travel to a site,

• Helping with scheduling a vaccine appointment,

• Arranging or providing accessible transportation,

• Providing companion/personal support,

• Reminding people of their second vaccination appointment if needed, and/or,

• Providing technical assistance to local health departments or other entities on vaccine accessibility.

4. Assurance that the award recipient will do outreach to Aging and Disability Resource Centers, University Centers for Excellence in Developmental Disabilities Education, Research, and Service and State Councils on Developmental Disabilities, to maximize state coordination wherever possible.

5. Assurance to provide semi-annual federal financial reports and annual program reports that describes activities conducted, challenges, successes, and lessons learned. The written summary will also include number of people served or impacted by the services provided.

B. DUNS Number

All grant applicants must obtain and keep current a D-U-N-S number from Dun and Bradstreet. It is a nine-digit identification number, which provides unique identifiers of single business entities. The D-U-N-S number can be obtained from: https://iupdate.dnb.com/iUpdate/viewiUpdateHome.htm.

C. Intergovernmental Review

Executive Order 12372, Intergovernmental Review of Federal Programs, is not applicable to these grant applications.

IV. Submission Information

1. Letter of Assurance

To receive funding, eligible entities must provide a Letter of Assurance containing all the information outlined in Section III above.

Letters of Assurance should be addressed to: Alison Barkoff, Acting Administrator and Assistant Secretary for Aging, Administration for Community Living, 330 C Street SW, Washington, DC 20201.

Letters of Assurance should be submitted electronically via email to your ACL program officer. The following table identifies the designated program officer against each of the 10 ACL regions:

| ACL regions | Email/phone
Peter Nye—Program Officer | Region II • NY, NJ, PR, VI | peter.nye@acl.hhs.gov; 202-795-7606.
| Region V • IL, IN, MI, MN, OH, WI
| Region X • AK, ID, OR, WA
Veronica Hogan | Region I • CT, MA, ME, NH, RI, VT | veronica.hogan@acl.hhs.gov; 202-795-7365.
| Region III • DC, DE, MD, PA, VA, WV
| Region VII • IA, KS, MO, NE
Jennifer Martin | Region IV • AL, FL, GA, KY, MS, NC, SC, TN | jennifer.martin@acl.hhs.gov; 202-795-7399.
| Region VI • AR, LA, OK, NM, TX
Kimball Gray | Region VIII • CO, MT, UT, WY, ND, SD | kimball.gray@acl.hhs.gov; 202-795-7353.
| Region IX • CA, NV, AZ, HI, GU, CNMI, AS

2. Submission Dates and Times

To receive consideration, Letters of Assurance must be submitted by 11:59 p.m. Eastern Time on April 23, 2021. Letters of Assurance should be submitted electronically via email and have an electronic time stamp indicating the date/time submitted.

VII. Agency Contacts

1. Programmatic and Submission Issues

Direct programmatic inquiries to Program Officer found in the table in “Section IV. Submission Information.”

2. Submission Issues

Direct inquiries regarding submission of the Letters of Assurance to Program Officer found in the table in “Section IV. Submission Information.”

Dated: April 5, 2021.
Alison Barkoff,
Acting Administrator and Assistant Secretary for Aging.

[FR Doc. 2021-07290 Filed 4-8-21; 8:45 am]

BILLING CODE 4154-01-P